FEDERAL COMMUNICATIONS COMMISSION

47 CFR Part 73

[DA 05-769; MB Docket No. 05-155; RM-11226]

Radio Broadcasting Services; Denver City, TX

AGENCY: Federal Communications Commission.

ACTION: Proposed rule.

SUMMARY: This document requests comments on a petition for rulemaking filed by Ramar Communications II, Ltd., licensee of Station KSTQ-FM, Plainview, Texas, proposing to delete vacant and unapplied for Channel *248C2 at Denver City, Texas, or, in the alternative, modify the site restriction for Channel *248C2 to accommodate Petitioner's pending application to modify Station KSTQ-FM's operation. The proposed site for Channel *248C2, at coordinates 32-55-57 NL and 102-58-10 WL is 13.6 kilometers (8.5 miles) west of Denver City.

DATES: Comments must be filed on or before, May 12, 2005, and reply comments on or before, May 27, 2005.

ADDRESSES: Secretary, Federal Communications Commission, 445 Twelfth Street, SW., Washington, DC 20554. In addition to filing comments with the FCC, interested parties should serve the petitioner as follows: Dennis P. Corbett, Esq., John D. Poutasse, Esq., Leventhal, Senter and Lerman, PLLC, 2000 K Street, NW., Suite 600, Washington, DC 20006-1809.

FOR FURTHER INFORMATION CONTACT: Victoria M. McCauley, Media Bureau, (202) 418-2180.

SUPPLEMENTARY INFORMATION: This is a synopsis of the Commission's Notice of Proposed Rule Making, MB Docket No. 05-155 adopted March 23, 2005, and released March 25, 2005. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20054, telephone 800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Texas, is amended by removing Denver City, Channel *248C2.

Federal Communications Commission.
John A. Karousos,
Assistant Chief, Audio Division, Media Bureau.

[FR Doc. 05-7059 Filed 4-12-05; 8:45 am]

BILLING CODE 6712-01-P